DEPARTMENT OF HOUSING AND URBAN DEVELOPMENT

[Docket No. FR-5800-FA-10]

Announcement of Funding Awards, Indian Community Development Block Grant Program, Fiscal Year 2014

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2014 (FY 2014) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Glenda Green, Director, Office of Native Programs, 451 7th Street SW., Washington, DC 20410, telephone (202) 402-6329. Hearing or speech-impaired individuals may access this number via TTY by calling the toll-free Federal Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2014 awards announced in this Notice were selected for funding in a competition posted on HUD's Web site on June 12, 2014. Applications were scored and selected for funding based on the selection criteria in those notices and Area ONAP geographic jurisdictional competitions.

The amount appropriated in FY 2014 to fund the ICDBG was $70,000,000. Of this amount $3,960,000 was retained to fund imminent threat grants. Of the amount appropriated for single purpose competitive grants, $10,000,000 was available for a national competition for grants for mold remediation and prevention in tribally owned or operated housing. The allocations for the Area ONAP geographic jurisdictions for the non-mold grants were as follows:

Eastern/Woodlands: | $4,441,622
Southern Plains: | 13,343,479
Northern Plains: | 8,580,551
Southwest: | 19,867,953
Northwest: | 3,029,710
Alaska: | 6,955,906
Total | 56,219,221

In accordance with Section 102 (a)(4)(C) of the Department of Housing and Urban Development Reform Act of 1989 (103 Stat. 1987, 42 U.S.C. 3545), the Department is publishing the names, addresses, and amounts of the 97 awards made in Appendix A to this document. The awards made pursuant to the regional competitions are listed as are the nine grants awarded in the national competition for mold remediation and prevention.

Dated: July 22, 2015.
Lourdes Castro Ramirez,
Principal Deputy Assistant Secretary for Public and Indian Housing.

Appendix A
Name/address of applicant | Amount funded | Activity funded | Project description
Alabama-Quassarte Tribal Town, Tarpie Yargee, P.O. Box 187, Wetumka, OK 74883, 405-452-3987 | $609,738 | PFC | Construction of a wellness center.
All Mission Housing Authority (La Jolla), Dave Shaffer, 27740 Jefferson Avenue, Suite 260, Temecula, CA 92590, 951-760-7390 | 605,000 | HC | Construction of three new homes for families living in overcrowded situations.
All Mission Housing Authority (Viejas), Dave Shaffer, 27740 Jefferson Avenue, Suite 260, Temecula, CA 92590, 951-760-7390 | 605,000 | HC | Construction of three new homes with solar panels for the elderly.
Aroostook Band of Micmacs, Richard Getchell, #7 Northern Road, Presque Isle, ME 04769, 800-355-1435 | 600,000 | PFC | Construction of a tribal fitness center.
Aroostook Band of Micmacs, Richard Getchell, #7 Northern Road, Presque Isle, ME 04769, 800-355-1435 | 400,000 | HR | Remediation of mold in a 66 unit housing complex.
Bishop Paiute Tribe, Gerald Howard, 50 Tu Su Lane, Bishop, CA 93514, 760-873-3584 | 605,000 | PFC | Renovation and expansion of an Indian cultural and education center.
Blackfeet Housing Authority, Chancy Kittson, P.O. Box 449, Browning, MT 59417, 406-338-5031 | 400,000 | HR | Mold remediation on eight units.
Blackfeet Housing Authority, Chancy Kittson, P.O. Box 449, Browning, MT 59417, 406-338-5031 | 1,100,000 | HR | Rehabilitation of 24 low-rent housing units.
Bridgeport Paiute Indian Colony, John Glazier, P.O. Box 37, Bridgeport, CA 93514, 760-873-3584 | 605,000 | NC | Four new manufactured homes.
Buena Vista Rancheria, Rhonda Morningstar-Pope, 1418 20th Street, Suite 200, Sacramento, CA 95811, 916-491-0011 | 605,000 | PFC | New cultural center.
Cahuilla Band of Mission Indians, Luther Salgado, P.O. Box 391760, Anza, CA 925399, 951-763-5549 | 605,000 | HC | Four new manufactured homes.
Catawba Indian Nation/ISWA Development Corporation, William Harris, 996 Avenue of the Nations, Rock Hill, SC 29730, 803-366-4792 | 600,000 | PFC | Expansion of a day care and Head Start center.
Chickasaw Nation, Bill Anoatubby, P.O. Box 1528, Ada, OK 74821, 907-580-2603 | 800,000 | PFC | Construction of a building for the Chickasaw Youth Club.
Chippewa-Cree Housing Authority, Richard Morsette, RRI, Box 544, Box Elder, MT 59521, 406-395-4478 | 400,000 | HR | Remediation of mold in at least 15 homes.
Citizen Potawatomi Nation, John A. Barrett, 1601 South Gordon Copper Drive, Shawnee, OK 74801, 405-275-3121 | 800,000 | PFC | Expansion of a child care facility.
Comanche Nation Housing Authority, Mr. Lamoni Yazzie, P.O. Box 908, Lawton, OK 73502, 580-357-4956 | 800,000 | HR | Rehabilitation of 34 single family homes.
Comanche Nation Housing Authority, Reggie Wassana, P.O. Box 1671, Lawton, OK 73502, 580-357-4956 | 400,000 | HR | Remediation of mold in 16 homes.
Confederated Tribes of the Grand Ronde Community of Oregon, Reynold Leno, 9615 Grand Ronde Road, Grand Ronde, 97347, 503-879-5211 | 500,000 | PFC | Construction of a police station.
Cook Inlet Tribal Council, Gloria O'Neill, 3600 San Jeronimo Drive, Anchorage, AK 99508, 907-793-3600 | 600,000 | LH | Land for a 23-unit senior rental housing project.
Crow Tribe of Montana (Apsaalooke Nation), Darrin Old Coyote, P.O. Box 159/#1 Bacheeitche Ave, Crow Agency, MT 59022, 406-638-3715 | 480,951 | HR | Rehabilitation of 16 single family homes.
Delaware Tribe of Oklahoma, Paula Pechonick, 170 N.E. Barbara Avenue, Bartlesville, OK 74006, 918-337-6530 | 800,000 | PFC | Construction of a child development center.
Duckwater Shoshone Tribe, Virginia Sanchez, P.O. Box 140068, Duckwater, NV 89314, 775-863-0227 | 605,000 | PFC | Expansion of a health and medical facility.
Eastern Shawnee Tribe of Oklahoma, Glenna Wallace, P.O. Box 350, Seneca, MO 64865, 918-666-2435 | 800,000 | PFC | Construction of a child learning center.
Eklutna Native Village, Lee Stephen, 26339 Eklutna Village Road, Chugiak, AK 99567, 907-688-6020 | 600,000 | PFC | Construction of a health clinic.
Elko Band of Te-Moak Tribe of Western Shoshone, Gerald Temoke, 1745 Silver Eagle Drive, Elko, NV 89801, 775-738-8889 | 605,000 | NC | Seven new manufactured homes.
Enterprise Rancheria of Maidu Indians, Glenda Nelson, 2133 Monte Vista, Oroville, CA 95966, 530-532-9214 | 605,000 | HC | Construction of three new homes.
Ely Shoshone Tribe, Alvin Marques, 16 Shoshone Circle, Ely, NV 89301, 775-289-3013 | 464,692 | HR | Rehabilitation of 14 homeownership units.
Fallon Reservation of Paiute Shoshone Tribe, Len George, 565 Rio Vista Drive, Fallon, NV 89406-6415, 775-423-6075 | 80,000 | PFC | Renovation of a Head Start building.
Federated Indians of Graton Rancheria, Greg Sarris, 6400 Redwood Drive, Suite 300, Rohnert Park, CA 94928, 707-566-2288 | 605,000 | NC | Acquisition of two new homes.
Fort McDermitt Travel Plaza Enterprise, Wilson Crutcher, 401 South Reservation Road, McDermitt, NV 89421, 775-532-8259 | 605,000 | ED | Diesel truck fueling center.
Gulkana Village Council, Eileen Ewan, P.O. Box 254, Gakona, AK 99586, 907-822-3746 | 600,000 | PFI | Construction of three single family homes.
Hannahville Indian Community, Kenneth Meshigaud, N14911 Hannahville BI Road, Wilson, MI 49896, 906-466-2342 | 235,314 | PFI | Extension of a natural gas line to provide fuel for 49 homes.
Havasupai Tribe, Eva Kissoon, P.O. Box 10, Supai, AZ 86435, 928-448-2159 | 400,000 | HR | Mold remediation of 10 homes.
Hopland Band of Pomo Indians, Joseph San Diego, Treasurer, 3000 Shanel Road, Hopeland, 95449-9809, 707-472-2100 | 605,000 | PFC | Construction of an education center for families.
Houlton Band of Maliseets, Brenda Commander, P.O. Box 88, Houlton, ME 04730, 207-532-2660 | 473,985 | PFI | Construction of a dental clinic.
Ho-Chunk Nation of Wisconsin, John Greendeer, W9814 Airport Road, Black River Falls, WI 54615, 715-284-9343 | 249,433 | HC | Construction of an assisted living facility.
Hughes Village, Wilmer Beetus, P.O. Box 45029, Hughes, AK 99745, 907-889-2239 | 345,919 | HC | Construction of a housing unit.
Iipay Nation of Santa Ysabel, Virgil Perez, P.O. Box 130, Santa Ysabel, AZ 92070, 760-765-0845 | 605,000 | HC | Construction of four new homes.
Kaw Nation of Oklahoma, Elaine Huch, P.O. Box 50, Kaw City, OK 74641, 580-269-2552 | 800,000 | PFC | Construction of a health clinic.
Lac Courte Oreilles Indian Tribe, Michael Isham, 13394 W. Trepania Road, Hayward, WI 54843, 715-634-8934 | 600,000 | PFC | Expansion and renovation of Boys and Girls Club.
Little Traverse Bay Band of Odawa Indians, Fred Kiogima, 7500 Odawa Circle, Harbor Springs, MI 49740, 231-242-1402 | 482,985 | PFC | Construction of a tribal museum.
Los Coyotes Band of Cahuilla Indians, Shane Chapparosa, P.O. Box 189, Warner Springs, CA 92086-0189, 760-782-0711 | 605,000 | NC | Construction of five homes.
Lower Brule Sioux Tribe, Stuart Langdeau, 187 Oyate Circle, Lower Brule, SD 57548, 605-473-5522 | 900,000 | HR | Rehabilitation of 40 rental units.
Lummi Nation, Diane Phair, 2828 Kwina Road, Bellingham, WA 98226, 360-312-8407 | 500,000 | PFI | Infrastructure for construction of 18 single family homes.
Mescalero Apache Housing Authority, Alvin Benally, P.O. Box 248, Mescalero, NM 88340, 575-464-9235 | 825,000 | PFI | Homeownership assistance.
Metlakatla Housing Authority, Ron Ryan, P.O. Box 59, Metlakatla, AK 9996, 907-886-6500 | 600,000 | PFI | Site preparation and water and sewer infrastructure for 20 multi-family housing units.
Muscogee (Creek) Nation, George Tiger, P.O. Box 580, Okmulgee, OK 74447, 918-756-8700 | 800,000 | M | Development of a microenterprise program and accompanying services.
Native Village of Akutan, Zenia Borenin, P.O. Box 89, Akutan, AK 99553, 907-698-2300 | 170,680 | HR | Rehabilitation of a rental 4-plex.
Native Village of Atka, Mark Snigaroof, P.O. Box 47030, Atka, AK 99547, 907-839-2229 | 600,000 | NC | Construction of two homes.
Native Village of Gakona, Darin Gene, P.O. Box 102, Gakona, AK 99586, 907-822-5777 | 75,000 | HR | Rehabilitation of one single-family unit.
Native Village of Kongiganak, Jerry Ivon, P.O. Box 5069, Kongiganak, AK 99545, 907-557-5226 | 600,000 | PFC | Construction of a health clinic.
Native Village of Ruby, Kathryn Kangas, P.O. Box 10, Ruby, AK 99768, 907-468-4479 | 600,000 | PFC | Construction of a community center for health, cultural and social service programs.
Native Village of Tazlina, Dorothy Shinn, P.O. Box 87, Glennallen, AK 99588, 907-822-4375 | 40,000 | HR | Water treatment systems on three homes.
Nez Perce Housing Authority, Laurie Ann Cloud, P.O. Box 188, Lapwai, ID 83540, 208-843-2229 | 500,000 | HR | Home repairs on multiple units.
North Fork Rancheria Band of Mono Indians, Judy Fink, P.O. Box 929, North Fork, CA 93643-0929, 559-877-2461 | 605,000 | PFC | Construction of a housing services building.
Northway Village, Howard Sam, P.O. Box 516, Northway, AK 99764, 907-778-2311 | 600,000 | PFC | Construction of a multipurpose community center for education, nutritional, and cultural activities.
Northern Arapaho Housing Authority, Patrick Goggles, 501 Ethete Road, Ethete, WY 82520, 307-332-5318 | 300,000 | HR | Exterior rehabilitation of 13 substandard homes.
Northern Cheyenne Tribal Housing Authority, Lafe Haugen, P.O. Box 327, Lame Deer, MT 59043, 406-477-6419 | 900,000 | HR | Rehabilitation of 27 formerly conveyed housing units occupied by very low income families and elders.
Northern Ponca Housing Authority, Joel Nathan, 1501 West Michigan Avenue, Norfolk, NE 68701-5602, 402-379-8224 | 1,100,000 | HR | Rehabilitation of 82 substandard homes.
Northern Pueblos Housing Authority (Picuris), Scott Beckman, 5 West Gutierrez, Suite 10, Santa Fe, NM 87506, 888-347-6360 | 562,585 | PFC | Mold remediation in the tribal gym.
Northern Pueblos Housing Authority (Tesuque), Scott Beckman, 5 West Gutierrez, Suite 10, Santa Fe, NM 87506, 888-347-6360 | 605,000 | PFI | Installation of water, sewer, electrical lines and road improvements for 23 new single family homes.
Oglala Sioux (Lakota) Housing Authority, Tom Allen, P.O. Box 603, 4 SuAnne Center Drive, Pine Ridge, SD 57783, 605-722-7629 | 400,000 | HR | Remediation of mold in at least 75 low-rent units.
Ohkay Owingeh Housing Authority, Tomasita Duran, P.O. Box 1059, Ohkay Owingeh, NM 87566, 505-852-0189 | 825,000 | HR | Homeownership assistance for 15 low- and moderate-income families to remain on the reservation.
Organized Village of Kasaan, Ron Leighton, P.O. Box 26, Ketchikan, AK 99950, 907-542-2230 | 599,904 | PFC | Phase II of the Kasaan Community Use Facility.
Otoe-Missouria Tribe, John Shotton, 8151 Highway 177, Red Rock, OK 74651-0348, 580-723-4466 | 800,000 | PFC | Construction of a Head Start facility.
Paiute Indian Tribe of Utah, Gari Lafferty, 440 North Paiute Drive, Cedar City, UT 84721-6181, 435-586-1112 | 900,000 | PFC | Construction of an RV park and campground.
Pawnee Nation, Marshall Gover, P.O. Box 470, Pawnee, OK 74058, 918-762-3621 | 800,000 | PFC | Construction of a tribal community building.
Ponca Tribe of Oklahoma, Earl Howe, 20 White Eagle Drive, Ponca City, OK 74601, 580-762-8104 | 800,000 | PFC | Construction of a dialysis center.
Pribilof Islands Aleut Community of Saint Paul Island, Amos Philemonoff, P.O. Box 86, St Paul Island, AK 99660, 907-546-3200 | 600,000 | HR | Rehabilitation of 12 single family housing units.
Pueblo of Jemez, Isaac Perez, P.O. Box 100, Jemez Pueblo, NM 87024, 505-771-9291 | 400,000 | HR | Mold remediation on 10 adobe homes.
Zuni Housing Authority, Michael Chavez, P.O. Box 710, Zuni, NM 87327, 505-782-4564 | 826,926 | HR | Rehabilitation of 18 housing units.
Quileute Housing Authority, Anna Parris, P.O. Box 159, La Plush, WA 98350, 360-374-9719 | 457,310 | HR | Rehabilitation of 37 roofs and chimneys.
Rampart Village, Floyd Green, P.O. Box 67029, Rampart, AK 99767, 907-358-3312 | 339,213 | PFC | Repurpose a school for a community facility to provide multiple services.
Resighini Rancheria, Rick Dowd, P.O. Box 529, Klamath, CA 95548-0529, 707-482-2431 | 605,000 | PFC | Construction of a community center.
Rosebud Sioux Tribe, Cyril Scott, P.O. Box 30, Rosebud, SD 57570, 605-747-2381 | 400,000 | HR | Remediation of mold in 12 old housing units.
Sac and Fox Nation of Missouri in Kansas and Nebraska, Rita Bahr, 305 North Main Street, Reserve, KS 66434, 785-742-0053 | 178,750 | HR | Rehabilitation of at least 16 HUD-assisted homes.
Salish and Kootenai Housing Authority, Jason Adams, P.O. Box 38, Pablo, 59855-0038, 406-675-4491 | 750,000 | HR | Rehabilitation and energy efficient repairs in several homes and homeownership assistance for 100 families.
San Carlos Apache Housing Authority, Ronald Boni, P.O. Box 740, Peridot, AZ 85542, 928-475-2346 | 2,148,750 | HR | Rehabilitation of 47 homes.
San Felipe Pueblo Housing Authority, Isaac Perez, P.O. Box 4222, San Felipe Pueblo, NM 87001-4222, 505-771-9291 | 825,000 | HR | Rehabilitation of 20 homes.
Seneca Nation Indian Tribe of New York, Barry Snyder, William Seneca Building, 12837 Route 438, Irving, NY 14081, 716-532-4900 | 600,000 | PFI | Replacement of an aged wastewater treatment plant.
Shawnee Tribe of Oklahoma, Ron Sparkman, 29 South Highway 69A, Miami, OK 74355, 918-542-2441 | 800,000 | PFC | Construction of a tribal heritage center.
Smith River Rancheria, Kara Brundin-Miller, 140 Rodwday Creek Road, Smith River, CA 95567, 707-487-9255 | 605,000 | PFI | Waste water and treatment plant.
Spirit Lake Housing Authority, Doug Yankton, P.O. Box 187, Fort Totten, 58335-0187, 701-766-4131 | 900,000 | HR | Rehabilitation of 29 substandard homes.
Squaxin Island Tribe, David Loperman, 10 SE Squaxin Lane, Shelton, 98584, 360-426-9781 | 500,000 | HR | Rehabilitation of 30 homes.
Stockbridge-Munsee Community Band of Mohican Indian Tribe, Wally Miller, N. 8476 Moh-He-Con-Nuck Road, P.O. Box 70, Bowler, WI 54416, 715-793-4387 | 600,000 | PFC | Construction of an elderly care center.
Susanville Indian Rancheria Housing Authority, Nicholas Boyles, P.O. Box 970, Susanville, CA 96130-3628, 530-257-5035 | 605,000 | HC | Construction of five homeownership units.
Thlopthlocco Tribal Town, George Scott, P.O. Box 188, Okemah, OK 74859, 918-560-6198 | 800,000 | PFC | Construction of a community center.
Tohono O'odham—KiKi Association, Pete Delgado, P.O. Box 790, Sells, AZ 85634-0790, 520-383-2202 | 400,000 | HR | Remediation of mold on five homes.
Tonkawa Tribe, Donald L. Patterson, 1 Rush Buffalo Road, Okemah, OK 74653, 580-628-2561 | 800,000 | ED | Expansion of a motel.
United Keetoowah Band of Cherokee Indians of Oklahoma, George Wickliffe, P.O. Box 746, Tahlequah, OK 74465-0746, 918-456-5126 | 800,000 | PFC | Expansion of elder community center.
Ute Mountain Ute Housing Authority, Joann Lemmon, P.O. Box 189, Towaoc, CO 81334, 970-565-4283 | 900,000 | PFI | Infrastructure in support of first 10 homes on a proposed 200 home development site.
Utu Utu Gwaiti Paiute Tribe, Billie Saulque, 25669 Hwy 6, PMB 1, Benton, CA 93512, 760-933-2321 | 605,000 | NC | Six modular homes.
Walker River Paiute Tribe, Carl Johnson, P.O. Box 220, Schurz, NV 89427-0220, 775-773-2306 | 605,000 | PFC | Construction of a public safety center.
Warm Springs Housing Authority, Scott Moses, P.O. Box 1167, Warm Springs, OR 97761, 541-553-3250 | 500,000 | HR | Rehabilitation of nine duplex low rent housing units.
Washoe Housing Authority, Raymond Gonzales, Jr., 1588 Watasheamu Drive, Gardnerville, NV 89460, 775-265-2410 | 605,000 | NC | Construction of two 4-plex rental units.
Wichita and Affiliated Tribes of Oklahoma, Terri Parton, P.O. Box 729, Anadarko, OK 73005, 405-247-2425 | 800,000 | PFC | Construction of a historical center for tribal artifacts and culture objects.
Wyandotte Nation, Billy Friend, 64700 E. Highway 60, Wyandotte, 74370, 918-678-2297 | 612, 581 | PFC | Expansion of an elderly and day care center.

[FR Doc. 2015-18510 Filed 7-27-15; 8:45 am]

BILLING CODE 4210-67-P